DEPARTMENT OF ENERGY

Federal Energy Regulatory Commission

Combined Notice of Filings #1

Take notice that the Commission received the following exempt wholesale generator filings:

Docket Numbers: EG24-159-000.

Applicants: Carvers Creek LLC.

Description: Carvers Creek LLC submits Notice of Self-Certification of Exempt Wholesale Generator Status.

Filed Date: 4/3/24.

Accession Number: 20240403-5037.

Comment Date: 5 p.m. ET 4/24/24

Take notice that the Commission received the following electric rate filings:

Docket Numbers: ER12-1436-019; ER18-280-008; ER18-533-006; ER18-534-006; ER18-535-006; ER18-536-006; ER18-537-006; ER18-538-007; ER11-4266-000; ER22-48-004.

Applicants: Gridflex Generation, LLC, Richland-Stryker Generation LLC, Sidney, LLC, Monument Generating Station, LLC, O.H. Hutchings CT, LLC, Yankee Street, LLC, Montpelier Generating Station, LLC, Tait Electric Generating Station, LLC, Lee County Generating Station, LLC, Eagle Point Power Generation LLC.

Description: Notice of Non-Material Change in Status of Eagle Point Power Generation LLC, et al.

Filed Date: 4/1/24.

Accession Number: 20240401-5684.

Comment Date: 5 p.m. ET 4/22/24.

Docket Numbers: ER22-2931-001.

Applicants: PJM Interconnection, L.L.C.

Description: Tariff Amendment: Amendment to ISA No. 6612 & ICSA No. 6613, AC1-190 to be effective 5/20/2024.

Filed Date: 4/2/24.

Accession Number: 20240402-5225.

Comment Date: 5 p.m. ET 4/23/24.

Docket Numbers: ER24-333-000; ER24-334-000.

Applicants: Oak Lessee, LLC, Oak Solar, LLC.

Description: Second Supplement to November 3, 2023 Oak Solar, LLC et al., tariff filing.

Filed Date: 4/1/24.

Accession Number: 20240401-5677.

Comment Date: 5 p.m. ET 4/11/24.

Docket Numbers: ER24-824-002.

Applicants: Alabama Power Company, Georgia Power Company, Mississippi Power Company.

Description: Tariff Amendment: Alabama Power Company submits tariff filing per 35.17(b): Camellia Solar (Camellia II) LGIA Deficiency Response to be effective 12/21/2023.

Filed Date: 4/3/24.

Accession Number: 20240403-5109.

Comment Date: 5 p.m. ET 4/24/24.

Docket Numbers: ER24-1656-000; ER24-1657-000.

Applicants: McNair Creek Hydro Limited Partnership, Furry Creek Power Ltd.

Description: Supplement 03/29/2024 Furry Creek Power Ltd., et al. tariff filing.

Filed Date: 4/1/24.

Accession Number: 20240401-5682.

Comment Date: 5 p.m. ET 4/22/24.

Docket Numbers: ER24-1683-000.

Applicants: PJM Interconnection, L.L.C.

Description: Tariff Amendment: Notice of Cancellation of CSA, SA No. 4494; Queue No. AA2-060/AA2-061 to be effective 2/14/2024.

Filed Date: 4/3/24.

Accession Number: 20240403-5048.

Comment Date: 5 p.m. ET 4/24/24.

Docket Numbers: ER24-1684-000.

Applicants: PJM Interconnection, L.L.C.

Description: 205(d) Rate Filing: NSA, Service Agreement No. 7228; AB1-124 to be effective 6/3/2024.

Filed Date: 4/3/24.

Accession Number: 20240403-5049.

Comment Date: 5 p.m. ET 4/24/24.

Docket Numbers: ER24-1685-000.

Applicants: Midcontinent Independent System Operator, Inc.

Description: 205(d) Rate Filing: 2024-04-03_SA 4081 Duke Energy-Brouilletts Creek Solar 1st Rev GIA (J1348) to be effective 3/25/2024.

Filed Date: 4/3/24.

Accession Number: 20240403-5059.

Comment Date: 5 p.m. ET 4/24/24.

Docket Numbers: ER24-1686-000.

Applicants: PJM Interconnection, L.L.C.

Description: 205(d) Rate Filing: Original NSA SA No. 7227, Queue No. AB1-125 to be effective 6/3/2024.

Filed Date: 4/3/24.

Accession Number: 20240403-5065.

Comment Date: 5 p.m. ET 4/24/24.

Docket Numbers: ER24-1687-000.

Applicants: Carvers Creek LLC.

Description: Baseline eTariff Filing: Application for MBR Authorization with Waivers & Expedited Treatment to be effective 4/4/2024.

Filed Date: 4/3/24.

Accession Number: 20240403-5072.

Comment Date: 5 p.m. ET 4/24/24.

Docket Numbers: ER24-1688-000.

Applicants: Southern California Edison Company.

Description: 205(d) Rate Filing: First Amend IA, Ten West Link 500 kV Transmission Line (TOT784/RS FERC No. 532) to be effective 4/4/2024.

Filed Date: 4/3/24.

Accession Number: 20240403-5080.

Comment Date: 5 p.m. ET 4/24/24.

Docket Numbers: ER24-1689-000.

Applicants: Tucson Electric Power Company.

Description: 205(d) Rate Filing: Provisional Large Generator Interconnection Agreement (S.A. 545) to be effective 4/4/2024.

Filed Date: 4/3/24.

Accession Number: 20240403-5089.

Comment Date: 5 p.m. ET 4/24/24.

Docket Numbers: ER24-1690-000.

Applicants: CPV Backbone Solar, LLC.

Description: 205(d) Rate Filing: Revised Market-Based Rate Tariff Filing to be effective 6/3/2024.

Filed Date: 4/3/24.

Accession Number: 20240403-5143.

Comment Date: 5 p.m. ET 4/24/24.

Docket Numbers: ER24-1691-000.

Applicants: AEP Texas Inc.

Description: 205(d) Rate Filing: AEPTX-Great Kiskadee Storage 1st Amended Generation Interconnection Agreement to be effective 3/14/2024.

Filed Date: 4/3/24.

Accession Number: 20240403-5162.

Comment Date: 5 p.m. ET 4/24/24.

Docket Numbers: ER24-1692-000.

Applicants: PJM Interconnection, L.L.C.

Description: 205(d) Rate Filing: Amended WMPA, Service Agreement No. 6470; AG1-198 to be effective 6/3/2024.

Filed Date: 4/3/24.

Accession Number: 20240403-5164.

Comment Date: 5 p.m. ET 4/24/24.

Docket Numbers: ER24-1693-000.

Applicants: AEP Texas Inc.

Description: 205(d) Rate Filing: AEPTX-Pintail Pass BESS 1st Amended Generation Interconnection Agreement to be effective 3/20/2024.

Filed Date: 4/3/24.

Accession Number: 20240403-5173.

Comment Date: 5 p.m. ET 4/24/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 3, 2024.
Debbie-Anne A. Reese,
Acting Secretary.

[FR Doc. 2024-07556 Filed 4-9-24; 8:45 am]

BILLING CODE 6717-01-P